DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: NMFS Alaska Region Vessel Monitoring System (VMS) Program.

Form Number(s): None.

OMB Approval Number: 0648-0445.

Type of Request: Regular submission.

Burden Hours: 4,796.

Number of Respondents: 1,545.

Average Hours Per Response: 1 minute.

Needs and Uses: The National Marine Fisheries Service (NMFS) manages the crab fisheries in the waters off the coast of Alaska under the Fishery Management Plan for Bering Sea and Aleutian Islands Crab (FMP). Amendments 18 and 19 amend the FMP to include the Crab Rationalization Program (Program). Congress amended the Magnuson-Stevens Act to require the Secretary of Commerce to approve the Program. The Program reallocates BSAI crab resources among harvesters, processors, and coastal communities. This collection-of-information addresses the vessel monitoring system (VMS) requirements for the Program. A vessel that harvests crab in the crab fisheries, including a vessel harvesting community data quota or Adak allocations, would be required to have onboard an operating NMFS-approved VMS transmitter at any time when the vessel has crab gear on board. These transmitters automatically determine the vessel's location several times per hour using Global Positioning System (GPS) satellites and send the position information to NMFS via a mobile communication service provider.

Affected Public: Business or other for-profit organizations; individuals or households.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 22, 2005.
Gwellnar Banks,
Management Analyst, Office of the Chief Information Officer.

[FR Doc. 05-14906 Filed 7-27-05; 8:45 am]

BILLING CODE 3510-22-P